DEPARTMENT OF LABOR

Office of the Secretary

[Secretary's Order 01-2009]

Delegation of Authorities and Assignment of Responsibilities to the Assistant Secretary for Policy

1. Purpose. To define and delegate authorities and responsibilities to the Assistant Secretary for Policy (ASP).

2. Authority and Directives Affected.

A. Authorities.

This Order is issued pursuant to 29 U.S.C. 551; 5 U.S.C. 301; Reorganization Plan No. 6 of 1950 (5 U.S.C. Appendix 1); 5 U.S.C. 5315; the Regulatory Flexibility Act, as amended by the Small Business Regulatory Enforcement Fairness Act (5 U.S.C. 601 et seq. ); the Small Business Paperwork Relief Act of 2002 (44 U.S.C. 3506(i)); Executive Order 12131 (“The President's Export Council,” May 4, 1979); Executive Order 12866 (“Regulatory Planning and Review,” September 30, 1993), as amended by Executive Order 13258 (“Amending Executive Order 12866 on Regulatory Planning and Review,” February 26, 2002) and Executive Order 13422 (“Strengthening Federal Environmental, Energy, and Transportation Management,” January 18, 2007); Executive Order 13228, (“Establishing the Office of Homeland Security and the Homeland Security Council,” October 8, 2001); Executive Order 13272 (“Proper Consideration of Small Entities in Agency Rulemaking,” August 13, 2002); and Homeland Security Presidential Directive-1 (“Organization and Operation of the Homeland Security Council,” October 29, 2001).

B. Directives Affected.

1. Secretary's Order 13-2006, which delegated authority and assigned responsibilities to the Assistant Secretary for Policy (ASP), is cancelled.

2. This Order does not affect the authorities and responsibilities assigned by any other Secretary's Order, unless otherwise expressly so provided in this or another Order.

3. Background. The Office of the Assistant Secretary for Policy (OASP) provides advice and assistance to the Secretary and Deputy Secretary in a number of areas, including policy development, program implementation and evaluation, research, budget and performance analysis, and regulatory, legislative issues and other policy support. The Secretary of Labor advises the President and represents the Department of Labor (DOL or Department) in Cabinet deliberations dealing with significant regulatory, programmatic policy and legislative issues, including those related to economic data and trends, particularly as they relate to promoting the competitiveness of the American workforce in the 21st century economy. The presence of rapid technological and economic change in the economy compels the need for skilled analysts to be available to quickly assist the Secretary in response to urgent policy and programmatic matters. Thus, this Order sets forth OASP's role of providing support, analysis, and advice to the Secretary and Deputy Secretary on policy, programmatic, economic, regulatory, and compliance assistance matters.

This Order also addresses OASP's role under Executive Order (E.O.) 12866, amendments thereto, and related guidance from the Office of Management and Budget (OMB); the requirements of the Regulatory Flexibility Act, as amended by the Small Business Regulatory Enforcement Fairness Act of 1996 (SBREFA); the Small Business Paperwork Relief Act of 2002; the management of the U.S. Government Accountability Office Reports (see Secretary's Order 05-2008); the administration of the Policy Planning Board (see Secretary's Order 12-2006); and the administration of the DOL Working Partners for an Alcohol- and Drug-Free Workplace program.

Executive Order 12866, as amended by E.O. 13422, requires the head of each Executive Branch Agency to designate a Regulatory Policy Officer who shall be responsible for ensuring the Department's compliance with the Executive Order. The Secretary has designated the Assistant Secretary for Policy as the Department's Regulatory Policy Officer and this Order describes OASP responsibilities for the implementation of these functions.

This order also describes OASP's responsibilities regarding the policy development process within DOL, including management of the Policy Planning Board, and the Department's interaction with the Office of the Federal Register.

4. Delegation of Authorities and Assignment of Responsibilities.

A. The Assistant Secretary for Policy is delegated authority and assigned responsibility for:

1. Advising the Secretary and Deputy Secretary and coordinating and developing the preparation of studies, analyses, public statements and policies with respect to the Secretary's duties in the areas of regulatory, programmatic and compliance assistance policy, as well as economic policy formulation, including the impact of Departmental policies and programs on general economic policy.

2. Establishing the following offices and positions within OASP:

a. An Office of Regulatory and Programmatic Policy, to be headed by a Director, that implements, manages, and coordinates Departmental regulatory and programmatic policy.

b. An Office of Compliance Assistance Policy, to be headed by a Director, that develops, manages, and coordinates Departmental compliance assistance policies, initiatives and programs.

c. An Office of Economic Policy and Analysis, to be headed by the Department's Chief Economist, that implements, manages, and coordinates Departmental economic policy, research and analysis.

3. Serving as the Department's Regulatory Policy Officer under E.O. 12866, including:

a. Ensuring the Department complies with the regulatory and guidance development requirements of E.O. 12866, as amended, and any other related OMB Circulars or Bulletins, including OMB's Final Bulletin for Agency Good Guidance Practices.

b. Serving as the Department's regulatory liaison overseeing the exchange of information between the Department and OMB, including:

(1) Following Secretarial approval of draft regulations or guidance, transmitting the documents to OMB for review.

(2) Facilitating discussion between DOL and OMB staff about comments on regulations and guidance documents undergoing OMB review.

(3) Serving as the point of intake, concurrent with SOL and DOL agency staff, for OMB passback of comments on the Department's draft regulations and guidance documents.

(4) Coordinating the resolution of outstanding issues raised by OMB with affected DOL agencies, SOL, and the Office of the Secretary.

4. Serving as the Department's liaison to the Office of the Federal Register:

a. Electronically transmitting regulatory documents for submission to the Federal Register.

b. Coordinating and providing technical assistance to DOL agencies on the document submission process.

5. Providing general oversight of, and guidance for, the Department's compliance with the Regulatory Flexibility Act (as amended by SBREFA), Small Business Paperwork Reduction Act, and related laws and Executive Orders, OMB Circulars and Bulletins. This effort is done in consultation with SOL as needed and includes such activities as:

a. Developing and implementing written Departmental policies and procedures concerning the potential impact of draft rules on small entities, as required by Section 3(a) of E.O. 13272.

b. Providing analysis, guidance, review, and technical assistance, as necessary, to Departmental agencies that are preparing required studies such as regulatory impact and flexibility studies.

c. Providing guidance and technical assistance, as necessary, to Departmental agencies during the Small Business Advocacy Review Panel process.

d. Preparing, coordinating, and reviewing the Department's Semi-Annual Regulatory Agenda and Semi-Annual Peer Review Agenda.

e. In coordination with the Office of Small Business Programs, acting as the Department's liaison with the Small Business Administration (SBA), including the Office of the National Ombudsman and Chief Counsel for Advocacy.

f. Serving as the Department's point of contact with small businesses pursuant to the Small Business Paperwork Relief Act of 2002.

g. Providing the public with a list of compliance assistance resources consistent with SBREFA.

6. Providing leadership, analysis and operational support for the Policy Planning Board (Secretary's Order 12-2006), including preparing the Department's semi-annual Research Agenda.

7. Reviewing cross-cutting activities within the Department as they pertain to the Secretary's broader policy functions, including reports, budgets, legislative proposals, and other documents submitted to the Secretary or Deputy Secretary for review and approval; and coordinating selected reports to OMB and other agencies.

8. Consistent with Secretary's Order 05-2008, coordinating, reviewing and processing U.S. Government Accountability Office reports.

9. Consistent with Secretary's Order 02-2008, providing analysis and advice to the Secretary and Deputy Secretary on policies and programs related to developing, coordinating, implementing and institutionalizing compliance assistance initiatives, including reviewing Agency compliance assistance plans; identifying and promoting best practices; coordinating with agencies on cross-cutting initiatives; and providing leadership in development of Departmental compliance assistance tools, such as the elaws Advisors (Employment Laws Assistance for Workers and Small Businesses) and worker and small business guides.

10. Supporting and advancing the Department's involvement in homeland security and emergency management policy development and coordination matters involving the White House Homeland Security Council, the Department of Homeland Security, and other federal agencies to address policy issues relevant to the Department, its programs and agencies, and the functions and responsibilities of OASP.

11. Providing the analytical support required by the Secretary as a member of the President's Export Council.

12. Providing the economic analysis required to support the Secretary, Deputy Secretary, and PPB with respect to policy and regulatory issues under consideration by the Department including:

a. Preparing recommendations and analyses with respect to long- and short-term economic trends; preparing macroeconomic and microeconomic studies and analyses related to the formulation of policy or the economic impact of Departmental policies, regulations, and programs.

b. Compiling economic data and analysis for the Secretary and Deputy Secretary on current economic developments, particularly with respect to the Bureau of Labor Statistics' release of the Monthly Employment Situation report and in support of the Secretary's role as an economic advisor to the President.

13. Advising the Secretary, Deputy Secretary and Director of the Office of Jobs Corps on research, evaluations and policy initiatives related to the Job Corps program.

14. Administering the Department's Working Partners for an Alcohol- and Drug-Free Workplace program.

15. Representing the Secretary in a variety of forums attended by U.S. government officials and maintaining continuous and personal liaison with those groups and the White House on matters involving policy, Departmental programs, economic issues, regulations, or compliance assistance.

16. Conducting appropriate research, analysis and evaluation activities in accord with the Secretary's selected policy priorities.

17. Performing any additional duties that may be assigned by the Secretary.

B. The Assistant Secretary for Administration and Management is delegated authority and assigned responsibility for:

1. Providing budgetary resources arising from this Order, fully consistent with the established requirements of the Department.

2. Providing appropriate administrative and management support, as required, for the efficient and effective operation of these programs.

C. The Solicitor of Labor is responsible for providing legal advice and assistance to all Department of Labor officials relating to implementation and administration of all aspects of this Order.

D. DOL Agency heads are responsible for coordinating with OASP on policies and activities relating to the mission of their respective agencies, including:

1. Complying with the regulatory and guidance development requirements of E.O. 12866, as amended, and any other relevant OMB Directives, including OMB's Final Bulletin for Agency Good Guidance Practices.

2. Fulfilling the requirements of the Regulatory Flexibility Act, as amended by SBREFA, and related laws, including appropriate coordination with small entities in the development of rules, production of plain language compliance guides, and response to requests for information.

3. Developing annual compliance goals, timetables and objectives for their agencies and submitting their Annual Compliance Assistance Plans to the PPB for review and approval; planning and developing informational materials and compliance assistance tools (such as elaws Advisors), programs or activities to inform the public about the agencies' laws, policies, programs and activities; appointing one or more Compliance Assistance Liaisons to work with OCA on implementing and institutionalizing DOL compliance assistance initiatives, identifying and promoting best practices, and participating in DOL-wide compliance assistance programs.

4. Expeditiously reviewing and commenting on GAO's findings and recommendations contained in GAO reports, and submitting all responses to OASP for clearance through the Executive Secretariat.

5. Ensuring that reports requested by OASP concerning the achievement of the objectives of this order, including the semi-annual Regulatory Agenda, the semi-annual Peer Review Agenda and the semi-annual Research Agenda, are accurate and submitted in a timely manner.

5. Reservation of Authority and Responsibility.

A. The submission of reports and recommendations to the President and the Congress concerning the administration of statutory or administrative provisions is reserved to the Secretary.

B. This Secretary's Order does not affect the authorities or responsibilities of the Office of Inspector General under the Inspector General Act of 1978, as amended, or under Secretary's Order 4-2006 (February 21, 2006).

6. Redelegation/Reassignment of Authority. All authorities and responsibilities enumerated in this Order may be redelegated or reassigned within OASP.

7. Effective Date. This Order is effective immediately.

Dated: January 8, 2009.
Elaine L. Chao,
Secretary of Labor.

[FR Doc. E9-693 Filed 1-13-09; 8:45 am]

BILLING CODE 4510-23-P